DEPARTMENT OF HEALTH AND HUMAN SERVICES

Centers for Disease Control and Prevention

[60Day-11-11KA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Catina Conner, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Use of Evidence-Based Practices for Comprehensive Cancer Control—New—National Center for Chronic Disease Prevention and Health Promotion (NCCDPHP), Centers for Disease Control and Prevention (CDC).

Background and Brief Description

There have been increasing calls in the fields of public health generally and cancer control specifically for the dissemination, adoption, and implementation of evidence-based practices (EBPs). EBPs are public health practices (interventions, programs, strategies, policies, procedures, processes, and/or activities) that have been tested or evaluated and shown to be effective. However, while the development, review, and compilation of EBPs has steadily increased over time, there is concern that the adoption and implementation of those practices, including among cancer control planners and practitioners, has not kept pace. Given the gap between the development of EBPs and their use, public health and cancer control organizations need to place greater emphasis on the promotion and dissemination of these practices among those who can use them to improve population health.

While efforts to promote cancer control EBPs have increased, questions remain whether these efforts will result in widespread adoption and implementation of EBPs in the context of comprehensive cancer control (CCC) in the states, Tribes, and U.S. Associated Pacific Island Jurisdictions and territories. National Comprehensive Cancer Control Program (NCCCP) grantees may face a number of challenges to incorporating EBPs into CCC efforts in their jurisdictions. In order to address these barriers effectively and better promote the use of EBPs for cancer control, CDC would like to understand (1) how evidence-based approaches are currently being used to develop CCC plans; (2) how CCC programs identify EBPs; (3) what EBPs have been adopted by CCC programs; and (4) what challenges and unintended consequences have been encountered in their implementation.

CDC plans to conduct a new, one-time study to examine CCC planners' use of scientific and practice-based information to inform development of their CCC plans. Information collection will consist of two Web-based surveys involving key CCC stakeholders in the NCCCP-funded states, Tribes, and U.S. Associated Pacific Island Jurisdictions and territories. Respondents for the first survey will be Directors of the 66 NCCCP-funded programs, who will also have the opportunity to participate in a follow-up telephone call. Respondents for the second survey will be key program partners/collaborators identified by each Program Director (1-2 partners per Director) as instrumental to the selection and implementation of cancer control EBPs. The survey results will help CDC enhance existing NCCCP efforts by identifying new strategies for promoting the use of evidence-based approaches to comprehensive cancer control. The surveys will also identify technical assistance needs of NCCCP-funded awardees related to selection and implementation of EBPs, and will contribute to CDC's efforts to build the capacities of states, Tribes, and Pacific Island Jurisdictions and territories toward more effective efforts in cancer prevention and control. Finally, the results may lead to new insights and questions that can be addressed in future studies. CDC's authorization to conduct the study is provided by Section 301 of the Public Health Service Act (42 U.S.C. 241).

OMB approval will be requested for one year. Participation in the study is voluntary. There are no costs to the respondents other than their time.

Estimated Annualized Burden Hours
Type of Respondent | Form name | Number of respondents | Number of responses per respondent | Average burden per response (in hours) | Total response burden (in hours)
CCC Program Directors | Survey Scheduling Script | 66 | 1 | 15/60 | 17
| Program Directors Web Survey Questionnaire | 66 | 1 | 0.5 | 33
| Program Directors Telephone Interview Guide and Script | 66 | 1 | 20/60 | 22
CCC Program Partners | Program Partners Web Survey Questionnaire | 132 | 1 | 0.5 | 66
Total |  |  |  |  | 138

Catina Conner,
Acting Reports Clearance Officer, Centers for Disease Control and Prevention.

[FR Doc. 2011-21400 Filed 8-19-11; 8:45 am]

BILLING CODE 4163-18-P